DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Application for an Export Trade Certificate of Review.

OMB Control Number: 0625-0125.

Form Number(s): ITA-4093P.

Type of Request: Regular submission (extension of a currently approved information collection).

Burden Hours: 348.

Number of Respondents: 12.

Average Hours Per Response: 32.

Needs and Uses: An Export Trade Certificate of Review provides the certificate holder and its members with limited antitrust preclearance for specified export-related activities. Application for an Export Trade Certificate of Review is voluntary. The information to be collected is found at 15 CFR part 325—Export Trade Certificates of Review. The collection of information is necessary for the Departments of Commerce and Justice to conduct an antitrust analysis, in order to determine whether the applicant's proposed export-related conduct meets the standards in Section 303(a) of the Act. The collection of information constitutes the essential basis of the statutory determinations to be made by the Secretary of Commerce and the Attorney General. To maintain Certificate of Review, an annual report must be filed.

Affected Public: Business or other for-profit organizations.

Frequency: Annually.

Respondent's Obligation: Voluntary.

OMB Desk Officer: Wendy Liberante, (202) 395-3647.

Copies of the above information collection proposal can be obtained by calling or writing Diana Hynek, Departmental Paperwork Clearance Officer, (202) 482-0266, Department of Commerce, Room 6616, 14th and Constitution Avenue NW., Washington, DC 20230 (or via the Internet at dHynek@doc.gov.

Written comments and recommendations for the proposed information collection should be sent within 30 days of publication of this notice to Wendy Liberante, OMB Desk Officer, Fax number (202) 395-5167 or via the Internet at Wendy_L._Liberante@omb.eop.gov.

Dated: November 22, 2011
Gwellnar Banks,
Management Analyst, Office of the Chief Information Officer.

[FR Doc. 2011-30606 Filed 11-28-11; 8:45 am]

BILLING CODE 3510-DR-P